DEPARTMENT OF AGRICULTURE

Animal and Plant Health Inspection Service

9 CFR Part 94

[Docket No. 04-011-2]

Highly Pathogenic Avian Influenza; Additional Restrictions

AGENCY: Animal and Plant Health Inspection Service, USDA.

ACTION: Technical amendment.

SUMMARY: In an interim rule published in the Federal Register on May 10, 2004, we amended the regulations concerning the importation of animals and animal products to prohibit or restrict the importation of birds, poultry, and bird and poultry products from regions that have reported the presence of the H5N1 subtype of highly pathogenic avian influenza and to establish additional permit and quarantine requirements for U.S. origin pet birds and performing or theatrical birds and poultry returning to the United States. In the preamble of the interim rule, we specified that the additional restrictions in part 94 would apply only to unprocessed bird and poultry products, but mistakenly omitted the word “unprocessed” in the rule portion; in this document, we are correcting this error.

DATES: This amendment is effective June 23, 2005.

FOR FURTHER INFORMATION CONTACT: For information concerning bird and poultry products, contact Dr. Tracye Butler, Senior Staff Veterinarian, National Center for Import and Export, VS, APHIS, 4700 River Road Unit 40, Riverdale, MD 20737-1231; (301) 734-3277. For information concerning live birds and poultry, contact Dr. Julie Garnier, Staff Veterinarian, National Center for Import and Export, VS, APHIS, 4700 River Road Unit 39, Riverdale, MD 20737-1231; (301) 734-8364.

SUPPLEMENTARY INFORMATION: In an interim rule published in the Federal Register on May 10, 2004 (69 FR 25820-25826, Docket No. 04-011-1), we amended the animal import regulations in 9 CFR parts 93, 94, and 95 to prohibit or restrict the importation of birds, poultry, and bird and poultry products from regions that have reported the presence of the H5N1 subtype of highly pathogenic avian influenza (HPAI) and to establish additional permit and quarantine requirements for U.S. origin pet birds and performing or theatrical birds and poultry returning to the United States.

In the May 2004 interim rule, we specified in the preamble that unprocessed bird and poultry carcasses, parts, and products from regions where HPAI subtype H5N1 exists would be eligible for importation only if accompanied by an import permit and only if they are research or educational materials destined for a museum, educational institution, or research institution. However, in the rule portion of the interim rule we mistakenly omitted the word “unprocessed,” thereby holding both processed and unprocessed bird and poultry products to these restrictions. Therefore, in this document we are amending § 94.6, paragraph (e), to correct this omission.

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 continues to read as follows:

Authority: 7 U.S.C. 450, 7701-7772, and 8301-8317; 21 U.S.C. 136 and 136a; 31 U.S.C. 9701; 7 CFR 2.22, 2.80, and 371.4.

§ 94.6 [Amended]

2. In § 94.6, the paragraph heading and first sentence of paragraph (e) are amended by removing the word “Carcasses” and by adding the words “Unprocessed carcasses” in their place.

Done in Washington, DC, this 17th day of June 2005.
Elizabeth E. Gaston,
Acting Administrator, Animal and Plant Health Inspection Service.

[FR Doc. 05-12435 Filed 6-22-05; 8:45 am]

BILLING CODE 3410-34-P